FEDERAL EMERGENCY MANAGEMENT AGENCY

[FEMA-1356-DR]

Texas; Amendment No. 3 to Notice of a Major Disaster Declaration

AGENCY: Federal Emergency Management Agency (FEMA).

ACTION: Notice.

SUMMARY: This notice amends the notice of a major disaster for the State of Texas, (FEMA-1356-DR), dated January 8, 2001, and related determinations.

EFFECTIVE DATE: January 19, 2001.

FOR FURTHER INFORMATION CONTACT: Madge Dale, Response and Recovery Directorate, Federal Emergency Management Agency, Washington, DC 20472, (202) 646-3772.

SUPPLEMENTARY INFORMATION: The notice of a major disaster for the State of Texas is hereby amended to include the Categories C-G under the Public Assistance program to the following areas among those areas determined to have been adversely affected by the catastrophe declared a major disaster by the President in his declaration of January 8, 2001:

Lamar County for Individual Assistance.

Borden, Carson, Cherokee, Cooke, Dawson, Delta, Gains, Garza, Gray, Gregg, Grayson, Fannin, Franklin, Harrison, Hopkins, Hunt, Lamar, Lynn, Marion, Montague, Morris, Panola, Rains, Rusk, Smith, Titus, Upshur and Wood for Public Assistance.

Bowie, Cass, and Red River Counties for Public Assistance (Categories C-G), (already designated for Individual Assistance and debris removal and emergency protective measures (Categories A and B), including direct Federal assistance under Public Assistance).

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)
Lacy E. Suiter,
Executive Associate Director, Response and Recovery Directorate.

[FR Doc. 01-2447 Filed 1-26-01; 8:45 am]

BILLING CODE 6718-02-P